DEPARTMENT OF THE INTERIOR

Bureau of Reclamation, Fish and Wildlife Service

[FES 00-48]

Notice of Availability of Final Environmental Impact Statement/Environmental Impact Report

AGENCIES: Bureau of Reclamation, Fish and Wildlife Service.

ACTION: Notice of availability of Final Environmental Impact Statement for the proposed Trinity River Mainstem Fishery Restoration.

SUMMARY: This notice announces the availability of a joint final Environmental Impact Statement/Environmental Impact Report (FEIS/EIR) for the Trinity River Mainstem Fishery Restoration. The U.S. Fish and Wildlife Service, U.S. Bureau of Reclamation, Hoopa Valley Tribe, and Trinity County prepared a FEIS/EIR to assist the Secretary of the Interior in developing recommendations for permanent instream fishery flow requirements, habitat restoration projects, and operating criteria and procedures for the Trinity River Division of the Central Valley Project, California, necessary for the restoration and maintenance of natural production of anadromous fish in the Trinity River. Such recommendations are required by: the January 14, 1981, Secretarial Decision that initiated the Trinity River Flow Evaluation; the Trinity River Basin Fish and Wildlife Management Act (Public Law 98-541); and the Central Valley Project Improvement Act (Public Law 102-575).

DATES: A Record of Decision will occur no sooner than November 20, 2000.

ADDRESSES: Copies of the FEIS/EIR will be available on compact disc which, along with a summary, can be obtained by contacting the Fish and Wildlife Service, 1655 Heindon Road, Arcata, California 95521, (707) 822-7201. The documents are also available for review at the following government offices and libraries:

Government Offices

Fish and Wildlife Service, Arcata Fish and Wildlife Office, 1655 Heindon Road, Arcata, California 95521, (707) 822-7201;

Fish and Wildlife Service, Sacramento Fish and Wildlife Office, 2800 Cottage Way, Sacramento, California 95825, (916) 414-6464;

Trinity County Planning Department, 303 Trinity Lakes Blvd, Weaverville, CA 96093 (530) 623-1351;

Trinity County Natural Resources Division, 98A Clinic Ave., Hayfork, CA 96041, (530) 628-5949.

Libraries

Alameda Free Library, 2264 Santa Clara Avenue, Alameda, California 94501-4506, (510) 748-4669; Beale Memorial Library, 701 Truxtun Ave, Bakersfield, California, 93301, (661) 868-0700; Cesar Chaves Central Library, 605 N. El Dorado St, Stockton, California, (209) 937-8415; California State Library, Information and Reference Center, 914 Capitol Mall, Room 301, Sacramento, California 95814, (916) 654-0261; Colusa County Free Library, 738 Market Street, Colusa, California 95932-2398, (530) 458-7671; Contra Costa County Library, 1750 Oak Park Boulevard, Pleasant Hill, California 94523-4497, (510) 646-6423; Coos Bay Public Library, 525 W. Anderson Ave., Coos Bay, Oregon, 97420, (541) 269-1101; Del Norte County Library District, 190 Price Mall, Crescent City, California 95531-4395, (707) 464-9793; Fresno County Library, Central Branch, 2420 Mariposa St. Fresno, California, (559) 488-3195; Humboldt County Library, 1313 Third Street, Eureka, California 95501-1088, (707) 269-1900; Humboldt State University Library, Humboldt State University, Arcata, California 95521, (707) 826-4939; Lake County Library, 1425 N. High Street, Lakeport, California 95453-3800, (707) 263-8816; Los Angeles Public Library, 630 W. Fifth Street, Los Angeles, California, 90071-2097, (213) 228-7515; Marin County Free Library, 3501 Civic Center Drive, San Rafael, California 94903-4188, (415) 499-6051; Mendocino County Library-Ft. Bragg, 499 E Laurel St. Fort Bragg, California, 95437, (707) 964-2020; Mendocino County Library-Ukiah, 105 N. Main Street, Ukiah, California 95482-4482, (707) 463-4491; Menlo Park Public Library, 800 Alma Street, Menlo Park, California 94025-3460, (650) 858-3460; Merced County Library, 2222 M St., Merced, California, 95340, (209) 385-7434; Modesto Jr. College Library, 425 College Ave, Modesto, California, 95350, (209) 575-6498; Monterey Public Library, 625 Pacific Street, Monterey, California, 93940, (831) 646-3932; Sacramento Public Library, 828 I Street, Sacramento, California 95814-2589, (916) 264-2770; San Francisco Public Library, 100 Larkin Street, San Francisco, California 94102-4796, (415) 557-4400; San Jose Public Library, 180 W. San Carlos Street, San Jose, California 95113-2096, (408) 277-4822; Santa Cruz Public Library, 224 Church Street, Santa Cruz, California 95060-3873, (408) 429-3532; Shasta County Library, 1855 Shasta Street, Redding, California 96001-0460, (530) 225-5769; Siskiyou County Free Library, 719 Fourth Street, Yreka, California 96097-3381, (530) 842-8175; Sonoma County Library, Third and E Streets, Santa Rosa, California 95404-4400, (707) 545-0831; Tehama County Library, 645 Madison Street, Red Bluff, California 96080-3383, (530) 527-0607; Trinity County Free Library, 211 N. Main Street, Weaverville, California 96093-1226, (530) 623-1373; Willows Public Library, 201 N. Lassen St., Willows, California, 95988, (530) 934-5156; Central Library, 801 SW. 10th Avenue, Portland, Oregon 97205, (503) 248-5123; and National Clearinghouse Library, 624 Ninth Street, NW., 600, Washington, DC 20425, (202) 376-8110.

The FEIS/EIR will be available at the Fish and Wildlife Service website at http://www.ccfwo.r1.fws.gov.

FOR FURTHER INFORMATION CONTACT: Dr. MaryEllen Mueller, U.S. Fish and Wildlife Service, 2800 Cottage Way, Suite W-2606, Sacramento, CA 95825 (916) 414-6464 or Jay Glase, U.S. Fish and Wildlife Service, 1655 Heindon Road, Arcata, CA 95521 (707) 822-7201.

SUPPLEMENTARY INFORMATION: Construction of the Trinity River Division (TRD) of the Central Valley Project (CVP) was completed in 1963. The primary function of the TRD is to store Trinity River water for regulated diversion to the Central Valley of California for agricultural, municipal, and industrial uses. Construction and operation of the TRD resulted in the diversion of up to 90 percent of the average annual discharge in the Trinity River at Lewiston, and blocked access to 109 miles of salmon and steelhead spawning and rearing habitat. Reduced river flows, combined with excessive watershed erosion and encroachment of the river channel by riparian vegetation, caused major changes in the channel morphology resulting in the simplification and degradation of the remaining salmon and steelhead habitat of the Trinity River below the Lewiston Dam. This, in turn, resulted in rapid declines of salmon and steelhead populations following completion of the TRD.

In response to declining fisheries and degraded habitat conditions, the Secretary of the Interior (Secretary) decided in 1981 to increase flows in the Trinity River ranging from 140,000 acre-feet to 340,000 acre-feet annually, with reductions in dry and critically dry years. In addition, the Fish and Wildlife Service was directed to undertake a Flow Evaluation Study to assess fish habitat at various flows, summarize the effectiveness of other instream and watershed restoration activities, and recommend appropriate flows and other measures necessary to better maintain favorable habitat conditions. The Flow Evaluation Study began in October 1984 and was completed in June 1999. In October 1984, the Trinity River Basin Fish and Wildlife Management Act (Management Act) (Public Law 98-541) was enacted by Congress with the goal of restoring fish and wildlife populations to pre-TRD levels. The Act provided funding for construction, operation, and maintenance of the 11-item action plan developed by the Trinity River Task Force in 1982.

In 1992, the Central Valley Project Improvement Act (CVPIA) (Public Law 102-575) was passed. Section 3406(b)(23) of the CVPIA provides, through the TRD, an instream release of not less than 340,000 acre-feet of water into the Trinity River to meet Federal trust responsibilities to protect fishery resources of the Hoopa Valley Tribe and to meet the fishery restoration goals of the Management Act. The recommendations for mainstem Trinity River fishery restoration will be developed after appropriate consultations with Federal, State, Tribal, local agencies, and affected interests, and after completion the Flow Evaluation Study.

To restore the natural production of anadromous fish in the Trinity River in accordance with the 1981 Secretarial Decision, the Management Act, and the CVPIA, the FEIS/EIR analyzes the impacts of:

(1) Increased instream releases into the Trinity River to provide anadromous fish habitat and restore fluvial processes,

(2) Implementation of a channel rehabilitation program,

(3) Implementation of a spawning gravel supplementation program,

(4) Implementation of a watershed rehabilitation program, and

(5) Implementation of an Adaptive Environmental Assessment and Management Program.

On October 19, 1999, the Service published a notice in the Federal Register announcing the availability of the draft EIS/EIR and the commencement of the public comment period in the Federal Register (64 FR 56364). The comment period was originally scheduled to end on December 8, 1999. However, on December 2, 1999 the Service extended the period until December 20, 1999 (64 FR 67584). On December 27, 1999 the Service published a notice in the Federal Register, which reopened the public comment period until January 20, 2000 (64 FR 72357). In total, the lead agencies received written comments from 6445 people and organizations (1009 letters and 5436 preprinted postcards). The primary concerns expressed in many of the comments related to fishery resource analyses, power generation impacts analyses, mechanical modifications to riverine habitat and the amount of river flow proposed for restoration efforts. A list of the commenters and the response of the agencies to the comments is presented in the FEIS/EIR.

The FEIS/EIR is intended to accomplish the following:

(1) Inform the public of the proposed action and alternatives;

(2) Address public comments received during the scoping and comment periods;

(3) Disclose the direct, indirect, and cumulative environmental effects of the proposed action and each of the alternatives; and

(4) Indicate any irreversible commitment of resources that would result from implementation of the proposed action.

This notice is provided pursuant to Section 102(2)(c) of the National Environmental Policy Act of 1969, as implemented by the Council on Environmental Quality regulations (40 CFR parts 15001508), and the California Environmental Quality Act of 1970, as amended.

The Technical Appendixes (TA) for this FEIS/EIR will be made available upon request from the U.S. Fish and Wildlife Service, Arcata Office, 1655 Heindon Road, Arcata, CA 95521; (707) 822-7201. Documents cited in the FEIS/EIR and its supporting TAs will be available for viewing in Sacramento (U.S. Fish and Wildlife Service, 2800 Cottage Way, 946-414-6464), Arcata (U.S. Fish and Wildlife Service, 1655 Heindon Road; 707-822-7201), and Weaverville (Trinity County Library, 211 N. Main Street, Weaverville, California 96093, 530-623-1373).

Dated: October 13, 2000.
Willie R. Taylor,
Director, Office of Environmental Policy and Compliance.

[FR Doc. 00-27011 Filed 10-19-00; 8:45 am]

BILLING CODE 4310-55-P